DEPARTMENT OF HEALTH & HUMAN SERVICES

Administration for Children and Families

Office of Community Services; Funding Opportunity Title: Compassion Capital Fund (CCF) Targeted Capacity Building Program

Announcement Type: Initial.

Funding Opportunity Number: HHS-2005-ACF-OCS-IJ-0036.

CFDA Number: 93.009.

Due Date for Applications: Application is due May 31, 2005.

Executive Summary: The Administration for Children and Families (ACF), Office of Community Services (OCS) announces that applications will be accepted for new grants pursuant to the U.S. Department of Health and Human Services (HHS) Secretary's Compassion Capital Fund (CCF) authorized under section 1110 of the Social Security Act governing Social Services Research and Demonstration activities and the Departments of Labor, Health and Human Services, and Education, and Related Agencies Appropriations Act, 2005, Public Law 108-447.

Pursuant to this announcement, OCS will award funds to help build the capacity of faith-based and community organizations that address the needs of distressed communities. A “distressed community” is defined as a neighborhood or geographic community with an unemployment rate and/or poverty rate equal to or greater than the state or national rate. Priority areas of need include at-risk youth; the homeless; marriage education and preparation services to help couples who choose marriage for themselves develop the skills and knowledge to form and sustain healthy marriages; or social services to those living in rural communities.

I. Funding Opportunity Description

The Administration for Children and Families (ACF), Office of Community Services (OCS) announces that applications will be accepted for new grants pursuant to the U.S. Department of Health and Human Services (HHS) Secretary's Compassion Capital Fund (CCF) authorized under section 1110 of the Social Security Act governing Social Services Research and Demonstration activities and the Departments of Labor, Health and Human Services, and Education, and Related Agencies Appropriations Act, 2005, Public Law 108-447.

Pursuant to this announcement, OCS will award funds to help build the capacity of faith-based and community organizations that address the needs of distressed communities. A “distressed community” is defined as a neighborhood or geographic community with an unemployment rate and/or poverty rate equal to or greater than the State or national rate. Priority areas of need include at-risk youth; the homeless; marriage education and preparation services to help couples who choose marriage for themselves develop the skills and knowledge to form and sustain healthy marriages; or social services to those living in rural communities.

A. Background

Faith-based and community organizations have a long history of providing an array of important services to people and communities in need of charitable services in the United States. These groups have unique strengths that government cannot duplicate. They hold the trust of their community neighbors and leaders and have great understanding of the needs of the community and its systems. As a result, they are well positioned to understand the unique needs of at-risk youth, the homeless, those choosing to develop the skills and knowledge to form and sustain healthy marriages, and those living in rural communities in need of social services. Furthermore, the sense of mission from which these organizations work often translates into a unique approach to service delivery, a dedication of service to others, and a cultural awareness specific to their surrounding communities.

In recognition of this history and ability, President Bush believes it is in the public's interest to broaden Federal efforts to work with faith-based and community organizations, and he has made it a priority to ensure that these groups are treated equally with other organizations that apply for Federal funding. A key part of this effort to enhance and expand the participation of faith-based and community groups in serving those in need is the Compassion Capital Fund (CCF) Targeted-Capacity Building program described in this announcement.

Although the CCF Targeted Capacity Building program has addressed issues of at-risk youth in the past, this year, President Bush has specifically identified the need to focus on helping at-risk youth overcome the perilous risk of gang influence and involvement. Consequently, those interested in proposing at-risk youth activities are encouraged to propose projects that address this critical youth issue.

B. Program Purpose and Objectives

The purpose of the CCF Targeted Capacity Building program is to help build the capacity of grassroots faith-based and community organizations that address the needs of distressed communities. The CCF Targeted Capacity Building Program funds capacity-building activities that produce measurable impact resulting in more sustainable organizations. Capacity-building activities ensure that grassroots organizations have the tools to facilitate key changes within their organization. By addressing issues that are critical to the long-term viability of the organization, non-profits are better prepared and positioned to understand and meet the needs of the communities they serve.

CCF Targeted Capacity-Building grants will be awarded to grassroots faith-based and community organizations serving “distressed communities.” These grassroots organizations must use the funds in one of the four priority areas of need towards their organization's capacity-building in at least one of these five critical areas: (1) Leadership development, (2) organizational development, (3) programs/services, (4) funding, and (5) community engagement. Examples of the kinds of activities that relate to each critical area are listed below. This list is intended to be illustrative, not exhaustive:

Critical areas | Examples
1. Leadership Development | —Board Composition and Function. —Staff Professional and Career Development. —Volunteers Training and Development. —Succession Planning.
2. Organizational Development | —Board Governance. —Systems: Management, Human Resources, Financial, Information Technology, Planning. —Policies and Procedures. —Fiscal Controls. —Comprehensive Communications Strategy. —Non-profit Incorporation.
3. Programs/Services | —Program Design that expands or enhances program or service delivery. —Program Monitoring. —Evaluating Program Outcomes.
4. Funding | —Diversified Funding Sources. —Financial Sustainability. —Donor Development.
5. Community Engagement | —Community Asset Mapping. —Level of Community Participation. —Community Needs Assessment. —Leveraging Resources/Collaborative Relationships.

The goal of the CCF Targeted Capacity-Building Program is to help promising organizations bolster their sustainability and ultimately be able to serve more people more effectively and/or more efficiently, or expand/enhance services to distressed communities on a continuing basis. Applicants must describe, in concrete terms, their plans for using funds to improve their organization in a sustainable way. Grantees must use these awards to increase efficiency and capacity; therefore, these awards cannot be used to augment or supplant direct service delivery funds. For example, an organization that distributes food to the poor will not receive a grant simply to purchase additional food. Nor, for example, will an organization that provides substance abuse treatment services receive additional funds simply to enable it to provide exactly the same services to more people. Although these awards might well enable these organizations to assist additional individuals, they would not serve to improve the organizations' sustainability, efficiency, or capacity. Rather, the organizations would simply use additional funds in the same way they use existing funds, without fundamentally changing or improving their services.

ACF encourages and will grant preference to those eligible organizations whose annual operational budget is less than $500,000, or whose tribal membership is less than 5,000. Please see Section III.3 Other Eligibility Information, Section IV.2 Content and Form of Application Submission, V.1 Evaluation Criteria, and V. 2 Review and Selection Process for a detailed description.

Organizations that receive CCF funds may not engage in inherently religious activities, such as worship, religious instruction, or proselytization, as part of the programs or services funded with CCF funds. If an organization conducts such inherently religious activities, the activities must be offered separately, in time or location, from the programs or services funded with CCF assistance, and participation must be voluntary for beneficiaries of the CCF-funded programs or services. In addition, an organization receiving CCF funds shall not, in providing CCF-funded services, discriminate against a program beneficiary or prospective program beneficiary on the basis of religion or religious belief. Regulations pertaining to the Equal Treatment for Faith-Based Organizations, which includes the prohibition against Federal funding of inherently religious activities, can be found at either 45 CFR 87.1 or the HHS Web site at http://www.os.dhhs.gov/fbci/waisgate21.pdf.

II. Award Information

Funding Instrument Type: Grant.

Anticipated Total Priority Area Funding: $15,000,000.

Anticipated Number of Awards: 300.

Ceiling on Amount of Individual Awards per budget period: $50,000.

Floor on Amount of Individual Awards per budget period: None.

Average Projected Award Amount: $50,000.

Length of Project Periods: 12 month project and budget period.

III. Eligibility Information

1. Eligible Applicants

Native American tribal organizations (other than Federally recognized tribal governments);

Native American tribal governments (federally recognized);

Non-profits having a 501(c)(3) status with the IRS, other than institutions of higher education;

Non-profits that do not have a 501(c)(3) status with the IRS, other than institutions of higher education.

Additional Information on Eligibility

Faith-based and community organizations are eligible to apply for these grants. Other eligible entities include:

Federally recognized Indian Tribes;

Consortia of Indian Tribes;

Incorporated non-Federally recognized Tribes;

Incorporated non-profit multi-purpose community-based Indian organizations;

Urban Indian Centers;

National or regional incorporated non-profit Native American organizations with Native;

American community-specific objectives;

Alaska Native villages, as defined in the Alaska Native Claims Settlement Act (ANCSA) and/or non-profit village consortia;

Incorporated non-profit Alaska Native multi-purpose community-based organizations;

Non-profit Alaska Native Regional Corporations/Associations in Alaska with village specific projects;

Non-profit Native organizations in Alaska with village specific projects; Non-profit private agencies serving Native Hawaiians;

Non-profit private agencies serving native peoples from Guam, American Samoa, or the Commonwealth of the Northern Mariana Islands (the populations served may be located on these islands or in the United States); and,

Non-profit Alaska Native community entities or Tribal governing bodies (Indian Reorganization Act or Traditional Councils) as recognized by the Bureau of Indian Affairs.

Fiscal year (FY) 2003 and (FY) 2004 Compassion Capital Fund (CCF) Targeted Capacity Building grantees are eligible to apply for funding under this announcement as long as the social service priority area addressed by their FY 2005 proposed project differs from the priority area addressed in their FY 2004 project.

Eligible organizations in Non-Metropolitan counties as defined by the Office of Management and Budget are eligible for a grant under the social service priority area, Rural Communities. Due to the fact that entire counties are designated as Metropolitan when in fact, large parts of many counties may be rural in nature; ZIP Codes in Metropolitan counties that meet the criteria as defined by the Office of Rural Health are also eligible. To determine if a ZIP Code is defined as rural, please refer to the Web site at http://ruralhealth.hrsa.gov/funding/eligibilitytestv2.asp.

ACF encourages and will grant preference to organizations whose annual operational budget is less than $500,000, or whose tribal membership is less than 5,000.

In addition, ACF anticipates awarding up to 5 percent of the funds available under this announcement to the following eligible organizations:

Native American tribal organizations (other than Federally recognized tribal governments);

Native American tribal governments (Federally recognized);

Federally recognized Indian Tribes; Consortia of Indian Tribes;

Incorporated non-Federally recognized Tribes;

Incorporated non-profit multi-purpose community-based Indian organizations;

Urban Indian Centers;

National or regional incorporated non-profit Native American organizations with Native;

American community-specific objectives;

Alaska Native villages, as defined in the Alaska Native Claims Settlement Act (ANCSA) and/or non-profit village consortia;

Incorporated non-profit Alaska Native multi-purpose community-based organizations;

Non-profit Alaska Native Regional Corporations/Associations in Alaska with village specific projects;

Non-profit Native organizations in Alaska with village specific projects;

Non-profit private agencies serving Native Hawaiians;

Non-profit private agencies serving native peoples from Guam, American Samoa, or the Commonwealth of the Northern Mariana Islands (the populations served may be located on these islands or in the United States); and,

Non-profit Alaska Native community entities or Tribal governing bodies (Indian Reorganization Act or Traditional Councils) as recognized by the Bureau of Indian Affairs.

Please see Section I. Funding Opportunity Description, IV.2 Content and Form of Application Submission, V.1 Evaluation Criteria, and V.2 Review and Selection Process for a detailed description.

Please see Section IV for required documentation supporting eligibility or funding restrictions if any are applicable.

2. Cost Sharing/Matching

No.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be eligible for funding under this announcement.

An application that fails to satisfy the deadline requirements referenced in Section IV.3 will be considered non-responsive and will not be considered for funding under this announcement.

IV. Application and Submission Information

1. Address To Request Application Package

U.S. Department of Health and Human Services (HHS), Attention: Eduardo Hernandez, Administration for Children and Families Office of Community Services Operations Center, Compassion Capital Fund Targeted Capacity Building Program, 1515 Wilson Boulevard, Suite 100, Arlington, VA 22209. Phone: 1-800-281-9519. E-mail: OCS@lcgnet.com.

2. Content and Form of Application Submission

A. Required Format of Application

You may submit your application to us in either electronic or paper format. To submit an application electronically, please use the www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

General

While applicants may be working in more than one priority area, applicants must select one (1) priority area and label their application accordingly. The four (4) priority areas include: At-risk youth; Homeless; Healthy Marriage; and Rural Communities. Applications proposing projects covering more than one priority area will not be given a higher priority than those projects working in just one area.

The application must be double-spaced and single-sided on 8 x 11 plain white paper, with 1″ margins on all sides. The application must use Times New Roman 12 point font or Arial 12 point font.

The Table of Contents must not exceed one (1) page. The Project Narrative must not exceed nine (9) pages. Pages submitted beyond the first nine (9) pages in the Project Narrative section will be removed prior to panel review. The Appendix must not exceed five (5) pages. Pages submitted beyond the first five (5) in the Appendix section will be removed prior to panel review. The Appendix includes any additional supporting documentation.

All pages of the application must be sequentially numbered. The Budget, Narrative Budget Justification, Standard Forms for Assurances, Certifications, and Disclosures are not included in the Project Narrative and Appendix page limitations.

Applicants are requested not to send pamphlets, brochures, or other printed material along with their applications as these pose copying difficulties. These materials, if submitted, will not be included in the review process.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Voluntary Budget or Tribal Membership Size Assurance

The voluntary budget or tribal membership size assurance is not required for a complete application; however, ACF encourages any eligible non-profit organization, including Native American Tribal Organizations, whose annual operational budget is less than $500,000 or Native American Tribal Governments, federally recognized Indian Tribes, Consortia of Indian Tribes, or Incorporated non-federally recognized Tribes whose tribal membership is less than 5,000 to include the assurance with its application in order to receive an additional 5 points in the scoring of the application. In absence of a properly authorized assurance, no additional points will be granted. By signing the voluntary budget or tribal membership size assurance the authorizing official is attesting to the validity of all statements on the assurance. Please see Appendix A for instructions on completing the Voluntary Budget or Tribal Membership Size Assurance and Section V.1 for a detailed description of the relevant criteria that will be evaluated.

Please see Section V.1. Criteria, for instructions on preparing the full project description.

3. Submission Dates and Times

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8:00 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Table of Contents | See Section IV.2 | See Section IV.2 | By application due date.
Project Narrative | See Section IV.2 | See Section IV.2 | By application due date.
SF 424 | See Section IV.2 | Please visit http://www.acf.hhs.gov/programs/ofs/forms.htm for a full description | By application due date.
SF 424A | See Section IV.2 | Please visit http://www.acf.hhs.gov/programs/ofs/forms.htm for a full description | By application due date.
SF 424B | See Section IV.2 | Please visit http://www.acf.hhs.gov/programs/ofs/forms.htm for a full description | By application due date.
Voluntary Budget or Tribal Membership Size Assurance | See Sections III.3 and IV.2 | Format described in Sections III.3 and IV. 2 | By application due date.
Certification regarding Lobbying and associated Disclosure of Lobbying Activities (SF LLL) | See Section IV.2 | Please visit http://www.acf.hhs.gov/programs/ofs/forms.htm for a full description | By Time of Award.
Certification regarding Environmental Tobacco Smoke | See Section IV. 2 | Please visit http://www.acf.hhs.gov/programs/ofs/forms.htm for a full description | By Time of Award.
Proof of Non-Profit Status | See Section III.3 | See Section III.3 | By application due date.

Additional Forms

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

What to submit | Required content | Location | When to submit
Survey for Private, Non-Profit Grant Applicants | See form | May be found on www.acf.hhs.gov/programs/ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

A list of the Single Points of Contact for each State and Territory is included with the application materials for this announcement.

5. Funding Restrictions

An application that exceeds the upper value of the dollar range specified will be considered non-responsive and will be returned without further review.

6. Other Submission Requirements

Submission by Mail: An applicant must provide an original application with all attachments, signed by an authorized representative and two copies. Please see Section IV.3 for an explanation of due dates. Applications should be mailed to: U.S. Department of Health and Human Services (HHS), Administration for Children and Families Office of Community, Compassion Capital Fund Targeted Capacity Building Program, 1815 North Fort Meyer Drive, Suite 300, Arlington, VA 22209.Attention: Barbara Ziegler Johnson.

Hand Delivery: An applicant must provide an original application with all attachments signed by an authorized representative and two copies. Please see Section IV.3 for an explanation of due dates. Applications should be delivered to: U.S. Department of Health and Human Services (HHS), Administration for Children and Families Office of Community, Compassion Capital Fund Targeted Capacity Building Program, 1815 North Fort Meyer Drive, Suite 300, Arlington, VA 22209. Attention: Barbara Ziegler Johnson.

Electronic Submission: www.Grants.gov. Please see section IV. 2 Content and Form of Application Submission, for guidelines and requirements when submitting applications electronically.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

The following are instructions and guidelines on how to prepare the “Project Summary/Abstract” and “Full Project Description” sections of the application. Under the evaluation criteria section, note that each criterion is preceded by the generic evaluation requirement under the ACF Uniform Project Description (UPD).

1. Criteria

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Results or Benefits Expected

Identify the results and benefits to be derived.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria

The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Objectives and Need for Assistance (30 points)

(a) Service Area (5 Points): An application will be evaluated on the extent to which the applicant identifies the specific service area for project implementation and the target population they serve.

(b) Needs of Service Area (5 Points): An application will be evaluated on the extent to which the applicant describes the specific needs of the targeted service area; documents that the proposed project will be implemented in a distressed community and/or engages organizations that serve low-income populations; and documents that the project addresses a vital need in a distressed community. A “distressed community” is defined as a neighborhood or geographic community with an unemployment rate and/or poverty rate equal to or greater than the state or national rate. The application documents that both the unemployment level and poverty level for the targeted neighborhood or community are equal to or greater than the state or national level. The application cites the most recent available statistics from published sources, e.g. the recent U.S. Census or updates, the State, county, city, election district and other information are provided in support of its contention.

(c) Applicant's Capacity-Building Needs (10 Points). An application will be evaluated on the extent to which the applicant documents the capacity-building needs of their organization. The needs of the organization must be described in relationship to the following five critical areas of organizational capacity: (1) Leadership development, (2) organizational development, (3) programs/services, (4) funding, and (5) community engagement.

(d) Project Objectives (10 Points): An application will be evaluated on the extent to which the applicant states all primary project objectives. Applications will be evaluated on the extent to which the objectives of the proposed project are clearly stated and shown to address the needs of the organization in at least one of the five critical areas: (1) Leadership development, (2) organizational development, (3) programs/services, (4) funding, and (5) community engagement. Applications will be evaluated on the extent to which the applicant presents a compelling need in the community for an increase or improvement in services. Applicants must demonstrate how the receipt of this Federal grant will enable the applicant to increase its capacity to address these vital needs.

Approach (30 points)

Capacity-Building Strategy. An application will be evaluated on the extent to which the applicant describes a plan for developing organizational capacity in at least one of five critical areas: (1) Leadership development, (2) organizational development, (3) programs/services, (4) funding, and (5) community engagement. Applications will be evaluated based on the extent to which the capacity-building approach or strategy is logical, reasonable, and clearly linked to the desired results and benefits expected.

Organizational Proiles (15 points)

(a) Past Experience: (10 Points). An application will be evaluated on the extent to which the applicant demonstrates experience in and a proven track record in addressing the needs of “distressed community (ies)”, through the provision of social services. A “distressed community” is defined as a neighborhood or geographic community with an unemployment rate and/or poverty rate equal to or greater than the state or national rate. Applications will also be evaluated on the extent to which the applicant documents a history of service in the proposed project service area. In addition, applications will be also be evaluated on the extent to which the applicant includes concrete examples of services and/or programs.

(b) Organizational Capacity and Project Staff (5 Points). An application will be evaluated on the extent to which the applicant describes how the proposed project fits into the structure of the applicant organization. Applications will be evaluated on the extent to which the applicant provides evidence of facilities, fiscal controls and other resources that are adequate to achieve project goals. An application will be evaluated on the extent to which the applicant includes a listing of key positions required to carry out the project, the individuals proposed to fill the positions, and a detailed description of the kind of work they will perform. An application will be evaluated on the extent to which the applicant provides evidence demonstrating the staff's skill, knowledge, and experience in carrying out their assigned activities. Applications will be evaluated on the extent to which the applicant includes the above information with regard to consultants or staff from other organizations proposed to work on the project.

Results or Benefits Expected (15 Points)

An application will be evaluated on the extent to which it identifies the results or benefits expected to be derived from project activities. Applicants must describe how the proposed project will impact the sustainability of their organization. Applicants must describe the process for determining the relationship between project activities and anticipated outcomes, including any output measures to be used to evaluate the proposed project. Applicants must clearly describe the relationship(s) among project objectives, activities and anticipated results. The results and benefits proposed by the applicant must be reasonable and likely, quantified, clearly linked to and supported by the proposed capacity-building approach.

Budget and Budget Justification (10 Points)

An application will be evaluated based on the extent to which the applicant includes a budget that is clear, easy to understand, and that provides a detailed justification for the amount requested. Applicants should refer to the budget information presented in the Standard Forms 424 and 424A and to the budget justification instructions in section C. General Instructions for the Uniform Project Description. Since non-Federal reviewers will be used in the review of applications, applicants may omit from the copies of the application submitted (not from the original), the specific salary rates or amounts for individuals in the application budget and instead provide only summary information.

Additional Bonus Points (5 Points)

The extent to which the application demonstrates that the applicant has an annual operational budget of less than $500,000, or a tribal membership of less than 5,000 via a signed assurance from an authorized official (Please see Appendix A for instructions on completing the assurance).

2. Review and Selection Process

Since ACF will be using non-Federal reviewers in the review process, applicants have the option of omitting from the application copies (not the original) of specific salary rates or amounts for individuals specified in the application budget.

No grant award will be made on the basis of an incomplete application.

Applications received by the due date will be reviewed and scored competitively. Experts in the field, generally persons from outside the Federal government, will use the evaluation criteria listed in Part V of this announcement to review and score the applications. The results of this review will be a primary factor in making funding decisions. ACF may also solicit comments from Regional Office staff and other Federal agencies. ACF may consider a variety of factors in addition to the review criteria identified above, including geographic diversity/coverage and types of applicant organizations, in order to ensure that the interests of the Federal Government are met in making the final selections. Furthermore, ACF may limit the number of awards made to the same or affiliated organizations although they would serve different geographic areas. Please note that applicants that do not comply with the requirements in the section titled “Eligible Applicants” will not be included in the review process.

ACF encourages and will grant preference to those eligible organizations whose annual operational budget is less than $500,000, or whose tribal membership is less than 5,000. Please see Section I. Funding Opportunity Description, III.3 Other Information on Eligibility, IV.2 Content and Form of Application Submission, and V.1 Evaluation Criteria for a detailed description.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Direct Federal grants, sub-award funds, or contracts under this Compassion Capital Fund Capacity Building program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at http://www.os.dhhs.gov/fbci/waisgate21.pdf.

45 CFR Part 74

45 CFR Part 92

Grantees are subject to the requirements in 45 CFR part 74 (non-governmental) or 45 CFR part 92 (governmental) as well as 45 CFR part 87.

3. Reporting Requirements

Programmatic Reports: Semi-Annually

Financial Reports: Semi-Annually

Grantees will be required to submit program progress and financial reports (SF 269) throughout the project period. Program progress and financial reports are due 30 days after the reporting period. In addition, final programmatic and financial reports are due 90 days after the close of the project period.

Original reports and one copy should be mailed to: Administration for Children and Families, Office of Grants Management, Division of Discretionary Grants, 370 L'Enfant Promenade, SW., Washington, DC 20447.

VII. Agency Contacts

Program Office Contact

Kelly Cowles, Office of Community Services, 370 L'Enfant Promenade, SW., Suite 500 West, Aerospace Building, Washington, DC 20447-0002. Phone: (800) 281-9519. E-mail: ocs@lcgnet.com.

Grants Management Office Contact

Barbara Ziegler-Johnson, Office of Grants Management, Division of Discretionary Grants, 370 L'Enfant Promenade, SW., 4th Floor West, Aerospace Building, Washington, DC 20447-0002. Phone: (800) 281-9519. E-mail: ocs@lcgnet.com.

VIII. Other Information

Additional information about this program and its purpose can be located on the following Web sites: http://www.acf.hhs.gov/programs/ccf/.

Applicants will be sent acknowledgements of received applications.

Dated: April 25, 2005.
Josephine B. Robinson,
Director, Office of Community Services.

Voluntary Budget or Tribal Membership Assurance

As the authorized individual signing this grant application on behalf of (name of applicant), I hereby attest and certify that the most recent annual operational budget for (name of applicant) is less than $500,000, or that the tribal membership of (name of applicant) is less than 5,000.

Date:

Printed Name of Authorized Individual:

Signature of Authorized Individual:

[FR Doc. 05-8607 Filed 4-28-05; 8:45 am]

BILLING CODE 4184-01-U